DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: The American Community Survey Content Test.

Form Number(s): ACS-1(X)C6.

Agency Approval Number: None.

Type of Request: New collection.

Burden: 56,933 hours.

Number of Respondents: 62,900.

Avg Hours Per Response: Questionnaire—40 min.; Content Reinterview—30 min.

Needs and Uses: The U.S. Census Bureau requests authorization from the Office of Management and Budget (OMB) to conduct the American Community Survey Content Test. Given the rapid demographic changes experienced in recent years and the strong expectation that such changes will continue and accelerate, the once-a-decade data collection approach of a decennial census is no longer acceptable as a source for the housing and socio-economic data collected on the Census Long-Form. To meet the needs and expectations of the country, the Census Bureau developed the American Community Survey (ACS). This survey collects long-form data every month and provide tabulations of these data on a yearly basis. In the past, the long-form data were collected only at the time of each decennial census. The ACS allows the Census Bureau to remove the long form from the 2010 Census, thus reducing operational risks, improving accuracy, and providing more relevant data.

Full implementation of the ACS in 2005 includes an annual sample of approximately three million residential addresses a year in the 50 states and District of Columbia and another 36,000 residential addresses in Puerto Rico each year. While this large sample of addresses permits production of single year estimates for areas with a population of 65,000 or more, estimates at lower levels of geography require aggregates of three and five years' worth of data. The year 2008 is the first year for changes to the ACS content since the 2003 data collection year. From 2008 through 2012, it is important that the content of the ACS questions remain consistent for the three and five year aggregated data estimates that the ACS will be able to produce. Data from year 2008 mark the first year of three year aggregated data including the year of the next decennial census in 2010. Similarly, 2008 will serve as the starting year for the five year aggregated data that includes 2010 (2008-2012). Given the significance of the year 2008, the ACS has committed to a research program during 2006 that will result in final content determination in time for the 2008 ACS. This research is the 2006 ACS Content Test. The 2006 ACS Content Test will address three primary research questions:

1. Per specific content areas, can changes to question wording, response categories, and redefinition of underlying constructs improve the quality of the collected data?

2. Do changes in the layout of the mail form necessary to accommodate the modified content impact response at a unit or item level?

3. What are the cost implications of a change in form design due to census short form questions in conjunction with ACS question changes?

The Content Test will include a national sample field test with 62,900 residential addresses. About half of the sample will serve as the test panel for the content; the other half will serve as the control panel and contain the current content of the 2005 ACS, plus three new content items included for the first time as part of the ACS Content Test. The three new topics are:

• Marital history (up to 3 new questions per person, depending on skip patterns)

• Health insurance (up to 2 new questions per person, depending on skip patterns)

• Service connected disability (up to 2 new questions, depending on skip patterns) Both the control and test versions will include these new items to keep context and questionnaire length consistent between the two versions.

These topics are included for testing on the Content Test, but the 2008 ACS may or may not include them. Only those topics for which Congress approves the legislation will be eligible for the 2008 ACS.

The ACS Content Test will include a Content Reinterview, conducted via CATI, as a method to measure response error. Along with other data quality measures, such as item non-response rates, measures of distributional changes and so on, simple response variance and gross difference rates will serve as indicators of the quality of the test questions relative to the current versions of the ACS questions.

Final content recommendations, an analysis of the data collected as part of the content test, including the Content Reinterview data, will guide the selection of the version of the questions that yield the highest quality data. Census Bureau analysts, subject matter experts, and experts from the other participating federal agencies will work together to determine the final question content based on the results of the test. The end product will reflect final content recommendation based on input from all participants. The final approval of these recommendations is expected in the early part of January 2007, so that the Census Bureau can implement all the necessary changes to the existing ACS data collection materials (e.g., questionnaires, CATI/CAPI instruments, questionnaire instruction booklet, interviewer training materials, etc.) to reflect the final recommended questions/content in time for implementation of the 2008 ACS.

The American Community Survey itself provides data comparable to the decennial census long form, at a census tract level. Federal agencies use ACS to determine appropriate funding for states and local governments through block grants. State and local governments use ACS data for program planning, administration and evaluation. Thus the quality of the ACS data directly impact the success of federal, state and local government programs.

The objective of the 2006 ACS Content Test is to improve the quality of ACS data. Every step we take to improve the quality of the data further improves planning, administration and evaluation of the government programs that rely on ACS data. The Content Test provides the vehicle for improving the quality of the ACS data.

Affected Public: Individuals or households.

Frequency: One-time.

Respondent's Obligation: Mandatory.

Legal Authority: Title 13 U.S.C., Sections 141, 193, and 221.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: July 6, 2005.
Madeleine Clayton,
Management Analyst, Office of the Chief Information Officer.

[FR Doc. 05-13598 Filed 7-11-05; 8:45 am]

BILLING CODE 3510-07-P